FEDERAL COMMUNICATIONS COMMISSION

47 CFR Part 73

[DA 03-815; MB Docket No. 03-78, RM-10684]

Radio Broadcasting Services; Bend and Prineville, OR

AGENCY: Federal Communications Commission.

ACTION: Proposed rule.

SUMMARY: This document sets forth a proposal to amend the FM Table of Allotments, Section 73.202(b) of the Commission's rules, 47 CFR 73.202(b). The Commission requests comment on a petition filed by Combined Communications, Inc., licensee of Station KTWS-FM, Channel 253C3, Bend, Oregon. Petitioner proposes to upgrade the allotment for Channel 253C3 at Bend, Oregon, to Channel 253C1, and to modify the license of KTWS-FM accordingly. In order to facilitate that change, petitioner further proposes to substitute Channel 271C3 for Channel 255C3, a vacant allotment at Prineville, Oregon, and to change the reference coordinates for that allotment. Channel 271C3 can be allotted to Prineville in compliance with the Commission's minimum distance separation requirements with a site restriction of 13.6 km (8.4 miles) east of Prineville. The coordinates for Channel 271C3 at Prineville are 44-20-36 North Latitude and 120-44-06 West Longitude. If that change is made in the Table of Allotments, Channel 253C1 can be allotted to Bend in compliance with the Commission's minimum distance separation requirements with a site restriction of 2.6 km (1.6 miles) northwest of Bend. The coordinates for Channel 253C1 at Bend are 44-04-41 North Latitude and 121-19-57 West Longitude. See SUPPLEMENTARY INFORMATION infra.

DATES: Comments must be filed on or before May 12, 2003, and reply comments on or before May 27, 2003.

ADDRESSES: Federal Communications Commission, Washington, DC 20554. In addition to filing comments with the FCC, interested parties should serve counsel for the petitioner as follows: J. Dominic Monahan, Luvaas, Cobb, Richards & Fraser, P.C., 777 High Street, Suite 300, Eugene, Oregon 97401.

FOR FURTHER INFORMATION CONTACT: Deborah A. Dupont, Media Bureau (202) 418-7072.

SUPPLEMENTARY INFORMATION: This is a synopsis of the Commission's Notice of Proposed Rule Making, MB Docket No. 03-78, adopted March 19, 2003 and released March 21, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202)863-2893.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Oregon, is amended by removing Channel 253C3 and by adding Channel 253C1 at Bend; and by removing Channel 255C3 and by adding Channel 271C3 at Prineville.

Federal Communications Commission.
John A. Karousos,
Assistant Chief, Audio Division, Media Bureau.

[FR Doc. 03-8407 Filed 4-7-03; 8:45 am]

BILLING CODE 6712-01-U